COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products and services previously furnished by such agencies.

DATES: Comments must be received on or before: December 2, 2018.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN(s)—Product Name(s): MR 8000—9999—Power Panel Program, MR Series 8000—9999

Mandatory for: The requirements of military commissaries and exchanges in accordance with the Code of Federal Regulations 41 CFR 51-6.4.

Mandatory Source of Supply: Winston-Salem Industries for the Blind, Inc., Winston-Salem, NC

Contracting Activity: Defense Commissary Agency

Distribution: C-List

Service

Service Type: Fulfillment Service

Mandatory for: U.S. Coast Guard Academy Admissions Division, 31 Mohegan Ave., New London, CT

Mandatory Source of Supply: Virginia Industries for the Blind, Charlottesville, VA

Contracting Activity: United States Coast Guard Academy

Deletions

The following products and services are proposed for deletion from the Procurement List:

Products

NSN(s)—Product Name(s): 6545-00-NSH-0026—Long Range Raid (LRR)

Mandatory Source of Supply: ServiceSource, Inc., Oakton, VA

Contracting Activity: Commander, Quantico, VA

NSN(s)—Product Name(s): 8465-01-141-2321—Pack, Personal Gear, Forest Service

Mandatory Source of Supply: Helena Industries, Inc., Helena, MT

Contracting Activity: Defense Logistics Agency Troop Support

Services

Service Type: Janitorial/Custodial Service

Mandatory for: U.S. Army Reserve Center: 936 Easton Road, Horsham, PA

U.S. Army Reserve Center: 1020 Sandy Street, Norristown, PA

Mandatory Source of Supply: The Chimes, Inc., Baltimore, MD

Contracting Activity: Dept of the Army, W40M NORTHEREGION Contract Ofc

Michael R. Jurkowski,
Business Management Specialist, Business Operations.

[FR Doc. 2018-24012 Filed 11-1-18; 8:45 am]

BILLING CODE 6353-01-P